DEPARTMENT OF THE INTERIOR

National Park Service

Draft Environmental Impact Statement for General Management Plan; Olympic National Park; Notice of Extension of Public Comment Period

SUMMARY: Pursuant to section 102(2)(C) of the National Environmental Policy Act of 1969 (Pub. L. 91-190 as amended), the National Park Service, Department of the Interior, has prepared a Draft Environmental Impact Statement (DEIS), which will serve as the “blueprint” to guide management, research, and other activities in Olympic National Park, Washington, during the next 15-20 years. The park's Notice of Availability of the DEIS was published in the Federal Register on July 14, 2006, with the original public review period set to conclude on September 15, 2006. In response to public interest expressed to date and with regard for the timing of the original release, the public review period has been extended two additional weeks.

SUPPLEMENTARY INFORMATION: Interested individuals, organizations, and agencies are encouraged to provide written comments—to be considered any response must now be postmarked or transmitted no later than September 30, 2006. Persons wishing to comment may do so by one of several ways. Responses are encouraged online using the electronic comment form accessed at the NPS Park Planning website (http://parkplanning.nps.gov), or by e-mail to olym_gmp@nps.gov. Written comments can be mailed to Olympic National Park General Management Plan, National Park Service, Denver Service Center, P.O. Box 25287, Denver, Colorado 80225; or faxed to (303) 969-2736. Comments may be hand delivered during normal business hours to the headquarters office of Olympic National Park located at 600 East Park Avenue, Port Angeles, WA 98362. To obtain a copy of the DEIS please contact the park at the address noted above, or via telephone at (360) 565-3004.

Our practice is to make comments, including names, home addresses, home phone numbers, and email addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials of organizations or businesses, available for public inspection in their entirety.

Dated: August 24, 2006.
Patricia L. Neubacher,
Acting Regional Director, Pacific West Region.

[FR Doc. E6-16664 Filed 10-6-06; 8:45 am]

BILLING CODE 4312-KY-P